DEPARTMENT OF THE TREASURY

Customs Service

[T.D. 01-53]

Cancellation of Customs Broker Licenses

AGENCY: U.S. Customs Service, Department of the Treasury.

ACTION: Customs broker license cancellations.

SUMMARY: Pursuant to section 641 of the Tariff Act of 1930 as amended (19 USC 1641) and the Customs Regulations (19 CFR 111), the following Customs broker licenses are cancelled. Some of these entities continue to provide broker services under another of their multiple license numbers. Because previous publication of some records cannot be readily verified, the records are now being published to ensure Customs compliance with administrative requirements.

Name | License | Port name
A.J. Murray Co., Inc. | 03571 | New York.
A.W. Fenton Co., Inc. | 06697 | New York.
AA Customs Brokers Trueba Saldivar | 14365 | El Paso.
ABC Int'l | 03154 | New York.
Abramo, Frank C. | 02026 | New York.
Accelerated Customs Brokers | 07411 | San Francisco.
Accelerated Shipping Co. | 10412 | New York.
Aeolian Shipping Co., Inc. | 02527 | New York.
Aero Space Cargo, Inc. | 06172 | New York.
AF Int'l | 09568 | New York.
Air Marine Brokers Ltd. | 05596 | New York.
Air-Barr Shipping Corporation | 03514 | New York.
Airport Clearance Service, Inc. | 04446 | New York.
Allen Forwarding (NY), Inc. | 05344 | New York.
Altenberg, Hans | 04126 | New York.
Alternative Brokers Int'l, Inc. | 09634 | New York.
Am-Can Freight Forwarders | 04784 | New York.
Ambrosio, Dominc J. | 02657 | New York.
Amerford Int'l Corporation | 03424 | New York.
American Safe System, Inc. | 04612 | New York.
Amshico Corp. | 05835 | New York.
Anderson, Robert L. | 04951 | Seattle.
Arnold, Alfred H. | 02209 | New York.
Arthur J. Fritz Co., Inc. | 02876 | Seattle.
Ascione, Pasquale | 00901 | New York.
Augerot, William | 03454 | New York.
AUT Import Services, Inc. | 07460 | New York.
Avery, Dwain O. | 04486 | Tampa.
B & L Customs Brokers, Inc. | 05837 | New York.
Baker, Irons & Dockstader, Inc. | 01445 | New York.
Baldassano, Vincent | 01807 | New York.
Barbieri, Philip A. | 02092 | New York.
Barbieri, Stephen | 02222 | New York.
Barnett, Lawrence | 02587 | New York.
Barnett/Novo Int'l Corp. | 04364 | New York.
BDP Int'l, Inc. | 09097 | New York.
Beacon Shipping Co., Inc. | 03729 | New York.
Becker, Stewart | 09145 | New York.
Bee Int'l, Inc. | 05828 | Tampa.
Behring Int'l, Inc. | 05171 | New York.
Benkart, F.J. | 01148 | New York.
BJG Int'l, Inc. | 04407 | New York.
Blankley, Joseph R. | 01547 | New York.
Bonvissuto, Michael | 02249 | New York.
Bowen, Albert E. | 03721 | New York.
Brian R. Glynn CHB, Inc. | 07303 | New York.
Bridgetts, Donald P. | 02512 | New York.
Bridgetts, William F. | 01909 | New York.
Bridgetts & Co., Inc. | 01479 | New York.
Briggs, Samuel Augustus, Jr. | 03007 | New York.
Bruce Duncan Company, Inc. | 04321 | New York.
Burlington Air Imports | 07294 | New York.
Burlington Air Imports, Inc. | 06963 | Los Angeles.
C.A. Haynes & Co., Inc. | 03699 | New York.
C.F. Liebert, Inc. | 04297 | Seattle.
C.H. Powell Co., Inc. | 02501 | New York.
C.H. Timm & Son, Inc. | 02758 | New York.
Cal-Asia Int'l, Inc. | 05360 | San Francisco.
California Capitol Exports | 09769 | San Francisco.
Cargo Clearance Corp. | 04253 | New York.
Cargo Express Custom Brokers, Inc. | 05599 | New York.
Cargo Network, Inc. | 07081 | New York.
Carney, John M. | 03483 | New York.
Centanni, Julius S. | 04606 | New Orleans.
Cerillo, Salvatore J. | 01997 | New York.
Chiarini, Joseph | 02573 | New York.
Christie, Roy G. W. | 05843 | Tampa.
Circle Int'l, Inc. | 04460 | New York.
Cizzon Corporation | 04572 | Chicago.
Coates, John | 02437 | New York.
Compagnie d'Affretement/Transport | 07182 | New York.
Conigliaro, Andrew S. | 02571 | New York.
Coniglio, Salvatore | 02773 | New York.
Connors, James | 02589 | San Francisco.
Consolidated Freightways Export Import | 07874 | New York.
Conway Customs Brokerage, Inc. | 10063 | New York.
Copeland Importing Services, Inc. | 03697 | New York.
Corff, Frank | 02467 | New York.
Coronet Brokers Int'l, Ltd. | 04260 | New York.
Courtney Int'l Forwarding, Inc. | 12399 | New York.
Cronin, Denis | 01907 | New York.
Cugus, Edward | 02775 | New York.
Culhane, Thomas F. | 09003 | New York.
Cunningham, Martin H. | 07865 | Tampa.
Cutroneo, Salvatore | 02871 | New York.
Danamar Associates, Ltd. | 09359 | Chicago.
Danheuser, Edwin J. | 03695 | New York.
Davis, A.D. | 01080 | New York.
DCI Int'l | 05227 | New York.
DCI Int'l | 05007 | San Francisco.
Dean Int'l, Ltd. | 04002 | New York.
DeMarco, Rosalie J. | 09228 | New York.
Dennis O'Donnell, Ltd. | 06330 | New York.
Desmond, Benjamin F. | 02638 | New York.
Dietrich, Peter J. | 00844 | New York.
Dingelstedt & Co. | 05126 | New York.
Distribution Services Int'l, Inc. | 06184 | San Francisco.
Division M, Inc. | 04729 | Chicago.
DNT Customs Services, Inc. | 11516 | Los Angeles.
Dorf Int'l, Inc. | 01687 | New York.
Dubienny, Theodore H. | 02360 | New York.
DUE Int'l, Inc. | 10932 | Los Angeles.
Dunlap, Alpers & Mott, Inc. | 02343 | New York.
Dunnington, Guy A. | 01774 | New York.
Dunnington & Arnold Int'l Inc. | 06277 | New York.
Dunnington & Arnold, Inc. | 02654 | New York.
Dyson Shipping Co., Inc. | 00219A | New York.
E.D.S. Int'l Shipping | 07761 | New York.
Eads, Larry W. | 04561 | San Francisco.
Echavarria, Rodlopho S. | 16679 | Laredo.
Edwards, Joseph | 01749 | New York.
Eilenberg, Carl | 01897 | New York.
Eisemann, Everett H. | 02375 | New York.
Emery Air Freight | 06341 | Dallas/Ft Worth.
Emery Distribution Systems, Inc. | 04576 | New York.
Encarnacion, Aurelio | 06230 | Los Angeles.
English, Edward J. | 01627 | New York.
Enterprise Shipping Corp. | 09328 | New York.
Enterprise Shipping Corp. | 04021 | San Francisco.
Ernst & Young | 10913 | San Francisco.
Eugene T. Gillen, Inc. | 03748 | New York.
Euramex Custom House Brokers, Inc. | 06402 | New York.
Express Forwarding and Storage Co., Inc. | 02686 | New York.
F.L. Kraemer & Co. | 00040A | New York.
F.L. Kraemer & Co., Inc. | 07349 | New York.
F.W. Myers & Co., Inc. | 04642 | New York.
F.W. Myers & Co., Inc. | 00729 | Champlain.
F.W. Myers Co., Inc. | 07612 | Seattle.
Falkenmayer, Charles W. | 02338 | New York.
Fast Flowers, Inc. | 09872 | New York.
Feigelson, Alan | 06594 | New York.
Fenderson, Frank H. | 02747 | Portland, ME.
Forlenza, Nunzi A. | 03629 | New York.
Francesco Paris Forwarding Corp. | 02846 | New York.
Francis, Louis | 01962 | New York.
Frank P. Dow Co., Inc. | 06996 | San Francisco.
Freedman, Jerome | 03041 | New York.
Freedman & Slater Air Cargo Corp. | 06138 | New York.
Freedman & Slater Air Cargo Corp. | 04348 | New York.
Freedman & Slater Inc. | 06137 | New York.
Freight Base Customs Brokers, Inc. | 06740 | New York.
Freight Expediters, Inc. | 05955 | New York.
Freight Wings (Partnership) | 09362 | New York.
Friemel, Arnold L. | 00043A | New York.
Frieson, Brenda Lyles | 05727 | St. Louis.
Fritz Companies, Inc. | 07408 | Tampa.
Fuschetto, Anthony | 02755 | New York.
G. Amador Corporation | 05478 | San Francisco.
G.A. Lopez Forwarding/Shipping Co. | 03683 | New York.
Gale, David | 04474 | New York.
Garcia, Michael, Jr. | 02529 | New York.
Gedenk of Panatlantic, Inc. | 06205 | New York.
Gehrig, John | 02116 | New York.
General Shipping/Trading Co., Inc. | 04050 | New York.
George S. Bush Co., Inc. | 00096 | Seattle.
Gerhard & Hey Co., Inc. | 00731 | New York.
GFI Customs Brokers, Inc. | 07949 | San Francisco.
Ginsberg, Lawrence | 02470 | New York.
Gladish & Associates | 09384 | San Francisco.
Glogower, Jack | 04217 | New York.
Glory Int'l Forwarders, Inc. | 05760 | New York.
Gommi, Julius W. | 00900 | New York.
Grealy, Eileen T. | 04702 | New York.
Gremillion, Ben L. | 05046 | New Orleans
Guglielmo, A. | 10030 | New York.
Gutman, Gertrude E. | 05542 | New York.
H.A. Gogarty | 01514 | New York
H.P. Lambert Company, Inc. | 06579 | Portland, ME.
H.W. Robinson Air Freight Corp. | 02645 | New York.
Halperin Shipping Co., Inc. | 03059 | New York.
Haniel-Phoenix Transport, Inc. | 10042 | New York.
Hannon, Timothy Otto | 07277 | San Francisco.
Hanrahan-Evans, Inc. | 04084 | New York.
Harder, Joseph E. | 02348 | New York.
Harlo-Air Cargo Brokers, Inc. | 03142 | New York.
Harper Robinson Company | 03147 | Seattle.
Harper, Robinson & Company | 06529 | Tampa.
Harris Brown, Inc. | 07875 | New York.
Harry F. Long, Inc. | 04884 | San Francisco.
Hauser Air Corp. | 04504 | New York.
HAV Int'l Freight Corp. | 09507 | New York.
Hayes & Cupitt | 03072 | New York.
Heer, Alfons | 03927 | New York.
Heldl's Incorporated | 02293 | New York.
Helstrom, Friedman, DiGiacoma, Inc. | 03917 | New York.
Henkell, Robert Edward | 02258 | New York.
Hermann Ludwig, Inc. | 04479 | New York.
Hirshbach & Smith, Inc. | 00114A | New York.
Hocherman, Joseph | 02365 | New York.
Humphrey McGreggor, Inc. | 02585 | Tampa.
Hundt, Frederick W. | 01657 | New York.
Hyams, Jack P. | 02660 | New York.
Hyams Expedition Corp. | 04714 | New York.
I.T.C. Compu-Customs Corp. | 04366 | New York.
Imperial Brokerage Corp. | 06663 | New York.
Import Specialist Assoc., Ltd. | 09618 | New York.
INB Int'l, Inc. | 04465 | New York.
Inter-Maritime Forwarding Co. | 07369 | Los Angeles.
Inter-Maritime Forwarding Co. | 07201 | Chicago.
Intercontinental Customs Brokers, Inc. | 04823 | Los Angeles.
Intercontinental Forwarders, Inc. | 06084 | New York.
Int'l Consumer Sales Inc. | 11865 | New York.
Int'l Customs & Shipping | 09378 | New York.
Int'l Customs Services, Inc. | 03431 | San Francisco.
Int'l Expediters, Inc. | 02565 | New York.
Int'l Freight Consultants, Inc. | 06691 | New York.
Int'l Trade Services Inc. | 09532 | Chicago.
Intertrans Corporation | 06729 | New Orleans.
Ira Furman & Co., Inc. | 04977 | New York.
J.B. Wood Shipping Co., Inc. | 01204 | New York.
J.D. Smith Inter-Ocean, Inc. | 04306 | New York.
JFMNY. Inc. | 09096 | New York.
J.J. Boll, Inc. | 03701 | New York.
J.J. Gavin & Co. | 00252A | New York.
J.M. Cargo, Inc. | 11725 | New York.
James, Thomas C. | 05677 | Tampa.
James A. Bronson, Inc. | 04989 | Seattle.
James E. Fox & Co., Inc. | 01348 | New York.
James G. Wiley Co. | 03425 | San Francisco.
James J. Boyle & Company | 03728 | San Francisco.
James Loudon & Co. | 02992 | San Francisco.
John H. Faunce, Inc. | 03649 | New York.
John J. Coates, Inc. | 03698 | New York.
John M. Carney, Inc. | 06871 | New York.
John V. Carr & Son, Corp. (NY) | 06889 | New York.
JTS AirFreight Corporation | 06650 | New York.
Judson Sheldon Int'l | 03192 | New York.
”K“ Air Brokerage, Inc. | 09610 | New York.
K&M Customs Brokers Int'l, Inc. | 04664 | New York.
K&M Customs Brokers, Inc. | 04261 | New York.
Kamen, Howard | 01007 | New York.
Karl Roessner Cargo Service, Inc. | 10164 | New York.
Karl Schroff Associates, Inc. | 04793 | Seattle.
Karl Schroff Int'l, Inc. | 14408 | San Francisco.
Kelley, Lawrence W. | 02617 | Portland, ME.
Kelly, Thomas P. | 07308 | New Orleans.
Kennedy World Wide, Inc. | 09601 | New York.
Kimoto, Paul T. | 05712 | San Francisco.
Kimoto, Paul | 06065 | Los Angeles.
King Shipping Co., Inc. | 04709 | New York.
King Shipping Company | 02867 | New York.
Kirk, John | 04980 | San Francisco.
Knoring, Abraham J. | 01333 | New York.
Korbul, Joseph | 03214 | New York.
Kormin Shipping Co., Inc. | 03419 | New York.
Kraemer, John Frederick | 02538 | New York.
Kraemer, Albert E.C. | 00030 | New York.
L.A. Ferm Company, Inc. | 02957 | New York.
Landau, Sylvia J. | 01062 | New York.
Lang & Marshall Company, Inc. | 02664 | New York.
Lansen, John P. | 01083 | New York.
Lansen-Naeve Corporation | 01504 | New York.
LaRosa, John | 00869 | New York.
Latherow, Charles A. | 10256 | Tampa.
Lauderdale, Melvin L. | 07960 | New York.
Leemar Import, Inc. | 09641 | New York.
Lefkowits, David | 02574 | New York.
Lehart-Schwartz Shipping Corp. | 03061 | New York.
Lehat-Schwartz & Associates, Inc. | 03080 | New York.
Lehder, Wilfred E. | 06224 | New Orleans.
Leiner, Melvin | 03839 | New York.
Leo Int'l | 05903 | New York.
LEP Transport, Inc. | 05223 | San Francisco.
Leyden Customs Expediters, Inc | 03149 | New York.
Liberty Int'l NY, Inc | 11293 | New York.
Linsenmeyer, Richard J | 01802 | New York.
Livingston Int'l Inc | 04639 | New York.
Locurto & Funk, Inc | 02711 | New York.
Losekamp, Bernard Mark | 13475 | Cleveland .
Lund Pullara, Inc | 04438 | Tampa.
M.J. Corbett & Co., Inc | 00081A | New York.
M.J. Corbett Air Division Corp | 02964 | New York.
Mack, Isabelle E | 02471 | New York.
Mallon, Vincent J | 04976 | New York.
Marin, Juan E | 12513 | San Juan.
Marion Shipping Co., Inc | 02728 | New York.
Markwalter, Frank J | 00591 | New York.
Mazzola, Joseph J | 09171 | New York.
McCarthy, Michael Joseph | 03429 | New York.
McFarland, C.J | 01470 | New York.
McGarry, William J | 02185 | New York.
McGregor Sea & Air Services | 04927 | San Francisco.
McGuinness, James | 05608 | New York.
McLean Cargo Specialists, Inc | 07629 | New York.
Medina, Manuel H | 03069 | New York.
Meyers Group (USA), Inc | 11970 | New York.
Modern Intermodal Traffic Co | 04009 | New York.
Mohegan Int'l Corp | 02485 | New York.
Monahan, Joanne M | 09724 | Buffalo.
Monarch Customs Brokers/Forwarders | 10770 | New York.
Monroe, Carl G | 04571 | Chicago.
Movers Port Service, Inc | 09382 | New York.
MRH Int'l, Ltd | 08012 | New York.
Muklfelder, Ronald | 05970 | New York.
N.J. Defonte Co., Inc | 03916 | New York.
N.M. Albert Co., Inc | 02405 | New York.
Naeve, H.N | 01118 | New York.
Nardella, Michael | 02718 | New York.
New York Customs Brokers, Inc | 03559 | New York.
New York Forwarding, Inc | 13351 | New York.
New York Int'l Customs Service | 04098 | New York.
Newbalt Associates, Inc | 03307 | New York.
Newman, Nathan | 01552 | New York.
Nicol, Frank | 02946 | Los Angeles
Nordisk Transport, Inc | 02885 | New York.
Norman G. Jensen, Inc | 02095 | Duluth.
Norman G. Jensen, Inc | 05373 | San Francisco.
O'Connell, Joseph P | 01632 | New York.
Oishi, Karla | 10604 | Los Angeles.
Opera Shipping Corp | 04683 | New York.
Oujevolk, George B | 02350 | New York.
Overton & Co. CHB, Inc | 05187 | New York.
Pad Import, Inc | 05628 | San Francisco.
Panalpina Airfreight, Inc | 04616 | Dallas.
Panalpina, Inc | 07577 | Washington, DC.
Passman, Edward M | 01611 | New York.
Paulssen & Guice, Ltd | 04387 | New York.
Pederson, Walter L | 00749 | New York.
Penson & Company | 04182 | San Francisco.
Perel, Maurice | 04259 | New York.
Person & Weidhorn, Inc | 03661 | New York.
Plichta, Felix A | 02374 | New York.
Polese, John | 02616 | New York.
Porter Expediters, Inc | 09599 | New York.
Pratt, Ian C | 17487 | New York.
Preferred LSI, Inc | 13840 | Los Angeles.
Premier Shipping Company, Inc | 04448 | New York.
Prime Customs Brokers Inc | 10798 | New York.
PS Clearance Associates, Inc | 06177 | New York.
Pui Ching Company, Inc | 16232 | Los Angeles.
Quigley, Laurence J | 02483 | New York.
R&Y Int'l Customs Brokers | 09600 | New York.
R.A. Leslie & Company | 08093 | New York.
R.G. Hobelman & Company, Inc | 05009 | San Francisco.
Radix Group Int'l, Inc | 07175 | San Francisco.
Radix Group Int'l, Inc | 07492 | Dallas.
Ray-Mar Expedition Corp | 04737 | New York.
Redondo, Leticia S | 05788 | San Francisco.
Reiss, Josiah | 00720 | New York.
Republic Interocean Corp | 03110 | New York.
Richard Castillo CHB | 10014 | New York.
Rijabatainer, Inc | 06199 | New York.
Robbins, Allen J | 04451 | New York.
Robbins, Stuart | 05041 | New York.
Robbins, Fleisig & Phelps, Inc | 04662 | New York.
Roberts, Chester G | 06151 | New York.
Rodgers, John Martin | 01776 | New York.
Roth, Charles S | 02461 | New York.
Royal Freight Brokers, Inc | 06893 | New York.
Rubino, Joseph A | 01564 | New York.
Ryan, Joseph F | 02858 | New York.
S. Jackson & Sons | 00028 | New Orleans.
S. Stern & Company | 02075 | New York.
Salehzadeh, Judith Ann | 09637 | Chicago.
Santarelli, Joseph C | 02960 | New York.
Sasson, Samuel H | 05730 | New York.
Scansped Flight, Inc | 05297 | New York.
Schaaf, Walter | 01077 | New York.
Schenkers Int'l Forwarders, Inc | 04673 | Norfolk.
Schmid, Baldwin R | 03374 | New York.
Schmid's Forwarding (NJ), Inc | 05869 | New York.
Schmitt, Albert C. | 02521 | New York.
Schraub, Jerome | 03958 | New York.
Schreter, Otto C. | 00766 | New York.
Schroff, Karl W., Jr. | 13544 | San Francisco.
Schwartz, Gerald | 03494 | New York.
Schwartz, Norman C. | 04539 | New York.
Scibelli, Eugene | 07224 | New York.
Sea Lanes Shipping Co., Inc. | 03212 | New York.
Sea-Lanes Freighting Corp. | 04022 | New York.
Seamodal Transport Corporation | 06015 | Chicago.
Seaport Shipping Co., Inc. | 04677 | San Francisco.
Seller, Charles W. | 00536 | New York.
Seven Seas Brokers, Inc. | 05734 | Miami.
Shigoto Customs Brokers, Inc. | 03402 | New York.
Shipco, Inc. | 06630 | New York.
Sichel, Edwin | 01896 | New York.
Sirota, Barney | 02631 | New York.
Skyline Cargo Services, Inc. | 04850 | New York.
Slater, Jerome | 02259 | New York.
Smith, Elaine A. | 02414 | New York.
Smith, Theodore B., Jr. | 01755 | New York.
Sobel Shipping Company | 02749 | New York.
SOL Int'l, Inc. | 11675 | New York.
Sopac Transport Corp. | 02723 | New York.
Southwest Customs Service Corp. | 13271 | Los Angeles.
Stair Cargo Brokers, Inc. | 09442 | New York.
Sterling Cargo Int'l, Inc. | 13809 | Dallas.
Strategic Transportation Company | 05916 | San Francisco.
Stringfield, William M. | 06503 | Los Angeles.
Suber, Julia Thomas | 10975 | Savannah.
Sullivan, Garrett X. | 02332 | New York.
Super Sonic Transport | 04368 | New York.
Superior Customs Brokers, Inc. | 05019 | New York.
Surface Air Int'l, Inc. | 04941 | New York.
Synodis, John | 02136 | New York.
T.J. Cavanagh Associates, Inc. | 09225 | New York.
Tarus, Charles J. | 02204 | New York.
Tassa, Nicholas | 05511 | New York.
Theodore B. Smith Company, Inc. | 02077 | New York.
Thomas, Charles M. | 01418 | New York.
Thornley & Pitt | 02822 | San Francisco.
Three Way CHB | 06274 | New York.
Timke, Robert | 02572 | New York.
Tomas Shipping Company, Inc. | 03088 | New York.
Traffic Int'l Corp. (LAX) | 13916 | Los Angeles.
Trans Air Import, Inc. | 03509 | New York.
Trans-Orient Int'l Freight | 06112 | New York.
Transatlas Int'l, Inc. | 04727 | New York.
Turnpike Express Corp. | 11903 | New York.
Twis Int'l, Inc. | 03984 | New York.
Tyson, Donald B. | 02622 | New York.
Unit Int'l of Miami | 13168 | Miami.
United Customs Inc. | 05423 | New York.
United Import Services, Inc. | 09847 | New York.
Vanguard Import Services, Inc. | 04865 | New York.
VanWie, Joseph P. | 02786 | New York.
Venslovaitis, Virginia H. | 11779 | Champlain.
Vinson, Benjamin | 01779 | New York.
W.A. Phelps & Co., Inc. | 04644 | New York.
W.C. Auger & Company | 03011 | San Francisco.
W.J. Byrnes-Air Division, Inc. | 00060 | San Francisco.
W.J. Byrnes-Air Division, Inc. | 02285 | San Francisco.
W.R. Keating & Co., Inc. | 01566 | New York.
Waldron Bowers, Inc. | 04201 | Honolulu.
Wilcox, Sherri | 11719 | Los Angeles.
William L. Bane & Co. | 02295 | New York.
Winslow Manly, Inc. | 03772 | New York.
Wolf & Gerber | 06313 | New York.
World Express Group | 13122 | San Francisco.
World Freight Forwarders, Inc. | 13055 | New York.
World Trade Customs Brokers, Inc. | 04122 | New York.
WTC Import Services, Inc. | 09997 | New York.
WTC Int'l, Inc. | 04501 | San Francisco.
WTC Int'l, Inc. | 04067 | New York.
WTT Customs House Brokerage, Inc. | 07181 | Washington, DC.
XL Brokers Int'l, Inc. | 10385 | Seattle.
York Marine, Ltd. | 07348 | New York.
Young, James | 02605 | New York.

Dated: July 5, 2001.
John H. Heinrich,
Acting Assistant Commissioner, Office of Field Operations.

[FR Doc. 01-18163 Filed 7-19-01; 8:45 am]

BILLING CODE 4820-02-P